DEPARTMENT OF JUSTICE

Antitrust Division

Notice Pursuant to the National Cooperative Research and Production Act of 1993—USB Flash Drive Alliance (“UFDA”)

Notice is hereby given that, on November 12, 2003, pursuant to Section 6(a) of the National Cooperative Research and Production Act of 1993, 15 U.S.C. 4301 et seq. (“the Act”), USB Flash Drive Alliance (“UFDA”) has filed written notifications simultaneously with Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Kingston Technologies, Fountain Valley, CA; Lexar Media, Inc., Fremont, CA; Samsung Semiconductor, Inc., San Jose, CA; SimpleTech, Inc., Santa Ana, CA; Microsoft Corporation, Redmond, WA; Viking Interworks, a Sanimna-SCI Company, Rancho Santa Margarita, CA; Crucial Technology, a division of Micron, Boise, ID; GenesysLogic, San Jose, CA; and PNY Technologies, Inc., Parsippany, NJ. The nature and objectives of the venture are to promote the advancement of the general use of USB flash drive devices through the creation of a generic industry recognized category (USB flash drives), and use this category to educate consumers about the benefits and uses of USB flash drives.

Dorothy B. Fountain,
Deputy Director of Operations Antitrust Division.

[FR Doc. 03-30736 Filed 12-11-03; 8:45 am]

BILLING CODE 4410-11-M